ENVIRONMENTAL PROTECTION AGENCY

[FRL OP-OFA-039]

Environmental Impact Statements; Notice of Availability

Responsible Agency: Office of Federal Activities, General Information 202-564-5632 or https://www.epa.gov/nepa.

Weekly receipt of Environmental Impact Statements (EIS)

Filed October 3, 2022 10 a.m. EST Through October 7, 2022 10 a.m. EST Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20220145, Final, FHWA, SC, I-526 Lowcountry Corridor West, Contact: Jeffrey (Shane) Belcher 803-253-3187.

Under 23 U.S.C. 139(n)(2), FHWA has issued a single document that consists of a final environmental impact statement and record of decision. Therefore, the 30-day wait/review period under NEPA does not apply to this action.

EIS No. 20220146, Final, USN, HI, Pearl Harbor Naval Shipyard and Intermediate Maintenance Facility Dry Dock and Waterfront Production Facility at Joint Base Pearl Harbor-Hickam, Oahu, Hawaii, Review Period Ends: 11/14/2022, Contact: Andrea Von Burg Hall 808-472-1425.

EIS No. 20220147, Draft, USN, DC, Proposed Land Acquisition at Washington Navy Yard, Washington, DC, Comment Period Ends: 11/28/2022, Contact: Nik Tompkins-Flagg 202-685-8437.

EIS No. 20220148, Draft, TxDOT, TX, Spur 399 Extension, Comment Period Ends: 12/09/2022, Contact: Doug Booher 512-416-2663.

EIS No. 20220149, Final, FERC, MO, Spire STL Pipeline Project, Review Period Ends: 11/14/2022, Contact: Office of External Affairs 1-866-208-3372.

Dated: October 7, 2022.
Marthea Rountree,
Acting Director, NEPA Compliance Division, Office of Federal Activities.

[FR Doc. 2022-22360 Filed 10-13-22; 8:45 am]

BILLING CODE 6560-50-P